DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of June, 2000.

In order for an affirmative determination to be made and a certification of eligibility to apply for worker adjustment assistance to be issued, each of the group eligibility requirements of Section 222 of the Act must be met.

(1) that a significant number or proportion of the workers in the workers' firm, or an appropriate subdivision thereof, have become totally or partially separated,

(2) that sales or production, or both, of the firm or subdivision have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-37,395; Honeywell, Inc., Formerly D/B/A Allied Signal-Johnson Matthey Electronics, Chippewa Falls, WI

TA-W-37,574; Illinois Tool Works Co., Mechanicsburg, PA

TA-W-37,454; Corson Manufacturing Co., Lockport, NY

TA-W-37,673; Dana Corp., Marion Forge Div., Marion, OH

TA-W-37,304; Nova Bus, Inc., Transit Bus Div., Roswell, NM

TA-W-37,617; Troutman Foundry, Inc., Statesville, NY

In the following cases, the investigation revealed that the criteria for eligibility have not been met for the reasons specified.

TA-W-37,689; Agri Sales, Saginaw, MI

TA-W-37,755; Schlegel Construction, Inc., Kalispell, MT

TA-W-37,716; Brunswick Bicycles, Balmorhea, TX

TA-W-37,620; Jo Hanna York, Inc., New York, NY

TA-W-37,614; Imation Corp., Woodbury, MN

TA-W-37,722; Pro-Emp Solutions, Inc., Odessa, TX

TA-W-37,649; San Manuel Health Care Center, San Manuel, AZ

TA-W-37,585; MAMIYE/MESPO Umbrella Co., Hollis, NY

TA-W-37,646; Fairway Foods of Michigan, Menominee, MI

The workers firm does not produce an article as required for certification under Section 222 of the Trade Act of 1974.

TA-W-37,740; Compair Leroi, Independence, VA

TA-W-37,731; Cupples Rubber Co., St. Louis, MO

TA-W-37,732; Choctaw Maid Farms Hatchery, Embrex Dept., Newton, MS

TA-W-37,562, A, B, C, D, E, F, G, H, I, J, K, L, M, N; The Beloit Corp., Beloit Nashua, Nashua, NH, Beloit Lenox, Lenox, MA, Beloit Northeast Regional office, Rochester, NH, Beloit South Regional Office, Hattiesburg, MS, Beloit Southeastern Regional Office, Kennesaw, GA, Beloit Midwest Regional office, Kimberly, WI, Beloit West Regional Office, Portland, OR, Beloit Millpro Service Center, Hattiesburg, MS, Beloit Millpro Service Center, Otego, MI, Beloit Corp Office, Wheeling, IL, Beloit Manhattan, Neenah, WI, Beloit Manhattan, Clark Summit, PA, Beloit Manhattan, Aiken, SC, Beloit Manhattan, Columbus, MS and Beloit Manhattan, Federal Way, OR

TA-W-37,383; Philadelphia Gear Corp., King of Prussia, PA

TA-W-37,419; Compaq Computer Corp., Houston, TX

TA-W-37,487; Alta Gold Co., Olenghouse Mine, Fernley, NV

TA-W-37,566; Bigsby Accessories, Inc., Kalamazoo, MI

TA-W-37,661; RHI Refractories America, Farber, MO

TA-W-37,733; L. Peter Larson Co., Olney, MT

TA-W-37,664; Hutchinson Technology, Inc., Eau Claire, WI

TA-W-37,653; Frontier Foundry, Inc., Titusville, PA

TA-W-37,603; A. Schulman, Inc., Dispersion Div., Orange, TX

TA-W-37,635; MSX International, Workers Employed at U.F.E., El Paso, TX

TA-W-37,425; SKF USA, Inc., Hub Bearing Unit Div., Glasgow, KY

TA-W-37,583; Trinity Industries, Inc., Butler, PA

TA-W-37,660; Go/Dan Industries, Houston, TX

TA-W-37,628; Hutchinson Technology, Inc., Sioux Falls, SD

Increased imports did not contribute importantly to worker separations at the firm.

TA-W-37,519; Air Products and Chemicals, Inc., Pace, FL

The investigation revealed that criteria (2) and criteria (3) have not been met. Sales or production did not decline during the relevant period as required for certification. Increases of imports of articles like or directly competitive with articles produced by the firm or an appropriate subdivision have not contributed importantly to the separations of threat thereof, and the absolute decline in sales or production.

TA-W-37,608; Concord Fabrics, Inc., New York, New York

The investigation revealed that criteria (2) has not been met. Sales or production did not decline during the relevant period as required for certification.

Affirmative Determinations for Worker Adjustment Assistance

The following certifications have been issued; the date following the company name and location of each determination references the impact date for all workers of such determination.

TA-W-37,534; Hartwell Sports (Auburn Sportswear), Tylertown, MS: March 22, 1999.

TA-W-37,588; Coloplast Amotex Plant, Centre, AL: March 27, 1999.

TA-W-37,672; Total Rental Tool and Manufacturing Co., Inc., Rush Springs, OK: April 26, 1999.

TA-W-37,579; Chicago Steel, Gadsden, AL: April 3, 1999.

TA-W-37,565; Philips Electronics North America Corp., Philips Components Div., Saugerties, NY: March 20, 1999.

TA-W-37,426; Leather Specialty Co/Howe Industries, Sanford, FL: February 22, 1999.

TA-W-37,496; Zin Plas Corp., Grand Rapids, MI: March 10, 1999.

TA-W-37,547 & A; Donnkenny Apparel, Inc., Floyd, VA and Independence, VA: March 16, 1999.

TA-W-37,590; NGK Metals Corp., Reading, PA: April 5, 1999.

TA-W-37,568; Oregon Manufacturing Services, Inc., Klamath Falls, OR: March 24, 1999.

TA-W-37,651; Nortel Networks, Santa Clara, CA: April 20, 1999.

TA-W-37,592; Macedonia Fashions Knitting, Inc., Brooklyn, NY: March 27, 1999.

TA-W-37,668; Pope and Talbot, Inc., Newcastle Plant, Newcastle, WY: May 11, 1999.

TA-W-37,604; Coho Energy, Inc., d/b/a Coho Resources, Inc., Dallas, TX: April 6, 1999.

TA-W-37,645; Lind Shoe Co., Somerset, WI: April 20, 1999.

TA-W-37,671; Hillsville Apparel, Inc., Hillsville, VA: May 22, 1999.

TA-W-37,571; Rugged Sportswear, Siver City, NC: March 31, 1999.

TA-W-37,681; PJC Sportswear, Inc., Brooklyn, NY: May 9, 1999.

TA-W-37,698; Grayson Enterprises, Inc., Eaton, IN: April 26, 1999.

TA-W-37,376; Oneida Limited Silversmith, Sherrill, NY: February 4, 1999.

TA-W-37,712; Rite Industries, Inc., High Point, NC: May 17, 1999.

TA-W-37,707; Oliver Rubber Co., Export, PA: May 9, 1999.

TA-W-37,293; Ironton Iron, Inc., Ironton, OH: January 19, 1999.

TA-W-37,578; Vanity Fair Intimates, Inc., Jackson Sewing, Jackson, AL: March 24, 1999.

TA-W-37,258; IPM Service Corp., Mini Tune Div., Dallas, TX: December 20, 1998.

TA-W-37,747; Thomson 60 Case, LLC, Lancaster, PA: May 25, 1999.

TA-W-37,666; Jensports, New Kensington, PA: April 28, 1999.

TA-W-37,624; PMC Specialties Group, Fords, NJ: March 28, 1999.

TA-W-37,648; Olympia Limited, Inc., Hoboken, NJ: April 4, 1999.

TA-W-37,729; Biljo, Inc., Dublin, GA: February 21, 2000.

TA-W-37,626; Thomason Electronics, Inc., Indianapolis, IN: April 10, 1999.

TA-W-37,524; Gaudette Leather Goods, Inc., North Atleboro, MA: March 14, 1999.

TA-W-37,520; Althin Medical, Inc., Miami Lakes, FL: March 2, 1999.

TA-W-37,476; Triten Leathergoods, Johnson City, TN: March 6, 1999.

TA-W-37,743; Tandycrafts, Inc., Tandyarts, Inc/Impulse Design, Pinnacle Art and Frame Div., Van Nuys, CA: May 23, 1999.

TA-W-37,718; Robertson Transformer Co., Rochester, IN: May 12, 1999.

TA-W-37,625; Thatcher Summit, Inc., d/b/a Ultimate Direction, Rexburg, ID: April 19, 1999.

TA-W-37,611; T and S Sewing, Inc., Hialeah Gardens, FL: April 4, 1999.

TA-W-37,532; The Berne Apparel Co., Berne, IN: March 16, 1999.

TA-W-37,499; Lenox China, Inc., Pomona, NJ: March 3, 1999.

TA-W-37,599 & A; United States Enrichment Corp. (USEC), Paducah Gaseous Diffusion Plant, Paducah, KY, and Portsmouth Gaseous Diffusion Plant, Piketon, OH: April 10, 1999.

TA-W-37,741; Nestle USA, Friskies Petcare Div., Elizabeth City, NC: May 23, 1999.

TA-W-37,708; The Stanley Works, Shelbyville Plant of Hand Tools Div., Shelbyville, TN: May 9, 1999.

TA-W-37,702; Spencer's Inc., Mt. Airy, NC: April 27, 1999.

TA-W-37,696; Parker Hannifin, Batesville, MS: May 4, 1999.

TA-W-37,726; Zebco, a Div. of Brunswick Corp., Tulsa, OK: May 4, 1999.

TA-W-37,687; Xantech Corp., Sylmar, CA: May 10, 1999.

TA-W-37,613; Sandvik Milford, Branford, CT: April 4, 1999.

TA-W-37,761; American Industrial Container Corp. A Div. of Lenworth Metal Products Limited, Meadville, PA: May 28, 1999.

TA-W-37,701; Oregon Woodworking Co & Temporary Workers from Mid-Oregon Labor Contractors & Express Personnel Services, Bend, OR: May 5, 1999.

TA-W-37,577; Electro-Tec Corp., Blacksburg, VA: April 3, 1999.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of June, 2000.

In order for an affirmative determination to be made and a certification of eligibility to apply for NAFTA-TAA the following group eligibility requirements of Section 250 of the Trade Act must be met:

(1) That is a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-03868; Frontier Foundry, Inc., Titusville, PA

NAFTA-TAA-03907; Go/Dan Industries, Inc., Houston, TX

NAFTA-TAA-03683; Nova Bus, Inc., Transit Bus Div., Roswell, NM

NAFTA-TAA-03906; RHI Refractories America, Farber, MO

NAFTA-TAA-03879; Dana Corp., Marion Forge Div., Marion, OH

NAFTA-TAA-03908; Invensys Appliance Controls, Independence, VA

NAFTA-TAA-03911; Hutchinson Technoligy, Inc., Eau Claire, WI

NAFTA-TAA-03852; Troutman Foundry, Inc., Statesville, NC

NAFTA-TAA-03943; L. Peter Larson Co., Olney, MT

NAFTA-TAA-03923; Butteville Lumber Co., Onalaska, WA

NAFTA-TAA-03895; Zebco, A Div. of Brunswick Corp., Tulsa, OK

NAFTA-TAA-03837; K and D Clothing Manufacturing Co., Philadelphia, PA

NAFTA-TAA-03909; Beloit Corp., Manhattan Div., Neenah, WI

NAFTA-TAA-03733; Langenberg Hat Co., Inc., New Haven, MO

NAFTA-TAA-03941; PCS Nitrogen, Camanche, IA

The investigation revealed that the criteria for eligibility have not been met for the reasons specified.

NAFTA-TAA-03834; Seagate Tehcnology, Inc., Customer Service Operations and Research and Design Center, Oklahoma City, OK

NAFTA-TAA-03915; Los Angeles Department of Water and Power, Sun Valley, CA

NAFTA-TAA-03938; Schlegel Construction, Inc., Kalispell, MT

NAFTA-TAA-03949; Agri Sales, Saginaw, MI

The investigation revealed that workers of the subject firm did not produce an article within the meaning of Section 250(a) of the Trade Act, as amended.

Affirmative Determinations NAFTA-TAA

NAFTA-TAA-03651; IPM Service Corp., Mini Tune Div., Dallas, TX: December 20, 1998.

NAFTA-TAA-03917; Biljo, Inc., Dublin, GA: February 21, 2000.

NAFTA-TAA-03844; Thomson Consumer Electronics, Inc., Indianapolis, IN: April 10, 1999.

NAFTA-TAA-03887; Vanity Fair Intimates, Inc., Jackson Sewing, Jackson, AL: April 27, 1999.

NAFTA-TAA-03880; Ranco North America, Plain City, OH: May 1, 1999.

NAFTA-TAA-03928; T&S Sewing, Inc., Hialeah Gardens, FL: April 4, 1999.

NAFTA-TAA-03935; Lefever Plastics, Inc., Huntsville, OH: May 5, 1999.

NAFTA-TAA-03934; Thomson 60 Case, LLC, Lancaster, PA: May 25, 1999.

NAFTA-TAA-03918; Robertson Transformer Co., Rochester, IN: May 12, 1999.

NAFTA-TAA-03930; Cupples Rubber Co., St. Louis, MO: May 17, 1999.

NAFTA-TAA-03939; The Stanley Works, Shelbyville Plant of Hand Rools Div., Shelbyville, TN: May 29, 1999.

NAFTA-TAA-03946; Nestle USA, Friskies Petcare Div., Elizabeth City, NC: May 23, 1999.

NAFTA-TAA-03932; Condor D.C. Power Supplies, Inc., The Todd Products Group, McAllen, TX: May 17, 1999.

NAFTA-TAA-03962; Texas Instruments, Inc., Versailles, KY: May 26, 1999.

NAFTA-TAA-03967; Alco Controls, Wytheville, VA: May 26, 1999.

NAFTA-TAA-03853; Hatch, Inc., El Paso, TX: April 4, 1999.

NAFTA-TAA-03963; Sagaz Industries, Inc., Miami, FL: March 21, 1999.

NAFTA-TAA-03914; Seton Co., El Paso Cutting Plan, El Paso, TX May 18, 1999.

NAFTA-TAA-03874; Long Handle Shirts, Inc., Monroe, NC: April 17, 1999.

I hereby certify that the aforementioned determinations were issued during the month of June 2000. Copies of these determinations are available for inspection in Room C-4318, U.Ss. Department of Labor, 200 Constitution Avenue, NW., Washington, DC 20210 during normal business hours or will be mailed to persons who write to the above address.

Dated: June 22, 2000.
Edward A. Tomchick,
Director, Division of Trade Adjustment Assistance.

[FR Doc. 00-16493 Filed 6-28-00; 8:45 am]

BILLING CODE 4510-30-M